ENVIRONMENTAL PROTECTION AGENCY

[EPA-HQ-OPP-2014-0137; FRL-9907-18]

Notice of Receipt of Requests for Amendments To Delete Uses in Certain Pesticide Registrations

AGENCY: Environmental Protection Agency (EPA).

ACTION: Notice.

SUMMARY: In accordance with the Federal Insecticide, Fungicide, and Rodenticide Act (FIFRA), EPA is issuing a notice of receipt of request for amendments by registrants to delete uses in certain pesticide registrations. FIFRA provides that a registrant of a pesticide product may at any time request that any of its pesticide registrations be amended to delete one or more uses. FIFRA further provides that, before acting on the request, EPA must publish a notice of receipt of any request in the Federal Register.

DATES: The deletions in Table 1 of Unit II, are effective May 2, 2014, because the registrants requested a waiver of the 180-day comment period, unless the Agency receives a written withdrawal request on or before May 2, 2014. The Agency will consider a withdrawal request postmarked no later than May 2, 2014. The deletions in Table 2 of Unit II, are effective September 29, 2014, unless the Agency receives a written withdrawal request on or before September 29, 2014. The Agency will consider a withdrawal request postmarked no later than September 29, 2014.

Users of these products who desire continued use on crops or sites being deleted should contact the applicable registrant in Table 1 of Unit II, before May 2, 2014, for the registrants that requested a waiver of the 180-day comment period. Users of these products who desire continued use on crops or sites being deleted should contact the applicable registrant in Table 2 of Unit II, before September 29, 2014.

ADDRESSES: Submit your withdrawal request, identified by docket identification (ID) number EPA-HQ-OPP-2014-0137, by one of the following methods:

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on visiting the docket, along with more information about dockets generally, is available at http://www.epa.gov/dockets.

FOR FURTHER INFORMATION CONTACT: Christopher Green, Information Technology and Resources Management Division (7502P), Office of Pesticide Programs, Environmental Protection Agency, 1200 Pennsylvania Ave. NW., Washington, DC 20460-0001; telephone number: (703) 347-0367; email address: green.christopher@epa.gov.

SUPPLEMENTARY INFORMATION:

I. General Information

A. Does this action apply to me?

This action is directed to the public in general. Although this action may be of particular interest to persons who produce or use pesticides, the Agency has not attempted to describe all the specific entities that may be affected by this action.

B. How can I get copies of this document and other related information?

The docket for this action, identified by docket identification (ID) number EPA-HQ-OPP-2014-0137, is available either electronically through http://www.regulations.gov or in hard copy at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces receipt by the Agency of applications from registrants to delete uses in certain pesticide registrations. These registrations are listed in Table 1 & Table 2 of this unit by registration number, product name, active ingredient, and specific uses deleted.

Table 1—Requests for Amendments To Delete Uses in Certain Pesticide Registrations
EPA Registration No. | Product name | Active ingredient | Delete from label
400-583 | Captan Technical | Captan | All foliar uses, except for Seed Treatment.
88541-1 | Willowood Lambda-Cyhalothrin Technical | Lambda-Cyhalothrin | Residential uses.

Users of these products in Table 1 of this unit, who desire continued use on crops or sites being deleted should contact the applicable registrant before May 2, 2014, because the registrants requested a waiver of the 180-day comment period, to discuss withdrawal of the application for amendment. This 30-day period will also permit interested members of the public to intercede with registrants prior to the Agency's approval of the deletion.

Table 2—Requests for Amendments To Delete Uses in Certain Pesticide Registrations
EPA Registration No. | Product name | Active ingredient | Delete from label
1021-1704 | Pyrocide Liquid Pet Spray 7418 | MGK 264, Pyrethrins (No Inert Use) & Pyriproxyfen | Commercial uses.
1021-1710 | Multicide Flying Insect Killer 27471 | MGK 264, Piperonyl butoxide & Prallethrin | Residential uses.

Users of these products in Table 2 of this unit, who desire continued use on crops or sites being deleted should contact the applicable registrant before September 29, 2014, to discuss withdrawal of the application for amendment. This 180-day period will also permit interested members of the public to intercede with registrants prior to the Agency's approval of the deletion.

Table 3 of this unit includes the names and addresses of record for all registrants of the products listed in Table 1 & Table 2 of this unit, in sequence by EPA company number.

Table 3—Registrants Requesting Amendments To Delete Uses in Certain Pesticide Registrations
EPA Company No. | Company name and address
400 | Chemtura Corporation, 199 Benson Road, Middlebury, CT 06749.
88541 | Willowood Lambda Cyhalothrin, LLC, Agent: Wagner Regulatory Associates, Inc., P.O. Box 640, Hockessin, DE 19707.
1021 | McLaughlin Gormley King Co., 8810 Tenth Avenue North, Minneapolis, MN 55427.

III. What is the Agency's authority for taking this action?

Section 6(f)(1) of FIFRA provides that a registrant of a pesticide product may at any time request that any of its pesticide registrations be amended to delete one or more uses. The FIFRA further provides that, before acting on the request, EPA must publish a notice of receipt of any such request in the Federal Register. Thereafter, the EPA Administrator may approve such a request.

IV. Procedures for Withdrawal of Request

Registrants who choose to withdraw a request for use deletion must submit the withdrawal in writing to Christopher Green using the methods in ADDRESSES. The Agency will consider written withdrawal requests postmarked no later than May 2, 2014, for the requests that the registrants requested to waive the 180-day comment period and no later than September 29, 2014, for the requests with a 180-day comment period.

V. Provisions for Disposition of Existing Stocks

The Agency has authorized the registrants to sell or distribute product under the previously approved labeling for a period of 18 months after approval of the revision, unless other restrictions have been imposed, as in special review actions.

List of Subjects

Environmental protection, Pesticides and pests.

Dated: March 6, 2014.
Michael Hardy,
Acting, Director, Information Technology and Resources Management Division, Office of Pesticide Programs.

[FR Doc. 2014-06957 Filed 4-1-14; 8:45 am]

BILLING CODE 6560-50-P